SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995, 44 U.S.C Chapter 35 requires federal agencies to publish a notice in the Federal Register concerning each proposed collection of information before submission to OMB, and to allow 60 days for public comment in response to the notice. This notice complies with that requirement.

DATES: Submit comments on or before November 21, 2014.

ADDRESSES: Send all comments to Louis Cupp, New Markets Policy Analyst, Office of Investment, Small Business Administration, 409 3rd Street, 6th Floor, Washington, DC 20416.

FOR FURTHER INFORMATION CONTACT: Louis Cupp, New Markets Policy Analyst, Office of Investment, Louis.cupp@sba.gov 202-619-0511, or Curtis B. Rich, Management Analyst, 202-205-7030, curtis.rich@sba.gov.

SUPPLEMENTARY INFORMATION: SBA uses this information collection for proper oversight within the scope of the Small Business Act to assess NMVC Program participants. Only the six NMVC Companies in the NMVC program will be required to submit the forms in this information collection. Although no new NMVCCs are anticipated, the information collected in the application forms in part of the contractual obligation of each NMVCC, and therefore must be used for any legal or other structural changes.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

(1) Title: NMVC Program Application, Funding and Reporting.

Description of Respondents: NMVC Program participants.

Form Number: SBA Forms 2210, 2211, 2216, 2219.

Total Estimated Annual Responses: 378.

Total Estimated Annual Hour Burden: 1,818.

Curtis B. Rich,
Management Analyst .

[FR Doc. 2014-22432 Filed 9-19-14; 8:45 am]

BILLING CODE 8025-01-P